FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

A.W.L.I. Group, Inc. dba Amber Worldwide Logistics (OFF & NVO), 147-60 175th Street, Jamaica, NY 11434. Officers: Elaine Rosendorf, President, (Qualifying Individual). Keith Milliner, Vice President, Application Type: Add NVO Service.

Air Parcel Express, Inc. (OFF & NVO), 2315 NW 107th, 1M-28, Doral, FL 33172. Officers: Virginie M. Guerra-Mondragon, Secretary/Treasurer, (Qualifying Individual). Andres R. Guerra-Mondragon, CEO, Application Type: QI Change.

Air Sea Logistics Inc. (OFF), 2801 NW 74th Avenue, Suite 106, Miami, FL 33122. Officers: Gus Mojica, President/Secretary, (Qualifying Individual). Argelio Sarabia, Vice President, Application Type: New OFF License.

Continental Logistics, LLC dba Sur Logistics (OFF), 1322 E. Pacific Coast Highway, Suite B, Wilmington, CA 90744. Officers: Ernie R. Zavaleta, Vice President, (Qualifying Individual). Oscar E. Sorto, President, Application Type: New OFF License.

Dyna (USA) Inc. (NVO), 2415 S. Sequoia Drive, Suite B, Compton, CA 90220. Officers: Amy Yang, Secretary/Vice President, (Qualifying Individual). Michelle Yang, President/Treasurer, Application Type: New NVO License.

Freight Options Unlimited (NVO), 14247 E. Don Julian Road, City of Industry, CA 91746. Officers: Alejandro R. Sahagun, President/Treasurer, (Qualifying Individual). Rodrigo B. Casas, Secretary, Application Type: QI Change.

HTNS America, Inc. dba UKO Logis, Inc. (OFF & NVO), 879 E. 190th Street, #290, Gardena, CA 90248. Officers: SE M. Chun, CFO. (Qualifying Individual). Won S. Jang, President/CEO/Secretary, Application Type: QI Change.

Intertrade Systems Inc. (OFF & NVO), 2030 NW 95th Avenue, Miami, FL 33172. Officer: Raul O. Barbosa, President, (Qualifying Individual). Application Type: License Transfer.

Leverex International Inc (NVO), 15 Corporate Place South, #407, Piscataway, NJ 08854. Officer: Yining Hu, President/Secretary/Treasurer, (Qualifying Individual). Application Type: New NVO License.

Midas International Investments LLC dba Midas Express Shipping and Freight (OFF & NVO), 14300 Cherry Lane Ct., Suite 103, Laurel, MD 20707. Officers: Nurudeen A. Oreagba, President, (Qualifying Individual). Adepero A. Oreagba, Vice President, Application Type: New OFF & NVO License.

Muches Global Industries Inc. (OFF & NVO), 10535 Rockley Road, #104, Houston, TX 77099. Officers: Asinobi O. Amadi, President, (Qualifying Individual). Queen E. Amadi, Vice President, Application Type: New OFF & NVO License.

Panda Logistics (NY), Inc. (NVO), 179-02 150th Avenue, Jamaica, NY 11434. Officers: Tat W. Cho, Secretary, (Qualifying Individual). Cooper Chao, President, Application Type: New NVO License.

Paxton Van Lines, Incorporated dba Meridian Container Lines (OFF), 5300 Port Royal Road, Springfield, VA 22151. Officer: Fred D. Paxton, President, (Qualifying Individual). Application Type: Trade Name Change.

SCM Solutions Corp. (OFF), 32938 Tamina Road, Suite 100, Magnolia, TN 77354. Officers: Thomas C. Gaze, President, Qualifying Individual). Lori L. Gaze, Secretary/Treasurer, Application Type: New OFF Service.

Sentry Cargo International, Inc. (OFF), 8322 NW 68th Street, Miami, FL 33166. Officer: Eduardo del Pozo, President/Secretary, (Qualifying Individual). Application Type: New OFF License.

Total Commerce Corp. dba Pentabox (OFF & NVO), 3410 NW 73rd Avenue, Miami, FL 33122. Officers: Carmen G. Mayer, President/Secretary/Treasurer, (Qualifying Individual). Douglas R. Mayer, Stockholder, Application Type: New OFF & NVO License.

Transglad, Inc. (OFF & NVO), 525 Neptune Avenue, #20G, Brooklyn, NY 11224. Officers: LaVonne V. Granados, Vice President, (Qualifying Individual). Robert Kogut, President, Application Type: (New OFF & NVO License).

VDM International Shipping, Inc. (NVO), 31 Airport Blvd., #F, South San Francisco, CA 94080. Officers: Victoria Andreychikova, CEO/President/Director, (Qualifying Individual). Maria Polishchuk, VP/CFO/Secretary/Director, Application Type: New NVO License.

Viva Logistics Inc. (OFF & NVO), 347 Fifth Avenue, Suite 910, New York, NY 10016. Officers: Shao F. Lai, Vice President, (Qualifying Individual). Wheiyu Wang, President, Application Type: New OFF & NVO License.

Winfar Int'l, Inc. (NVO), 20616 Drexel Drive, Walnut, CA 91789. Officer: Haixia aka Helen Li, CEO/Secretary/CFO, (Qualifying Individual). Application Type: New NVO License.

Wingar Logistics Inc. (NVO), 9690 Telstar Avenue, #207, El Monte, CA 91731. Officers: Kit (aka Mandy) F. Lai, Secretary, (Qualifying Officer). Chun Y. Lau, President/CEO, Application Type: New NVO License.

Woodbridge Global Logistics LLC, 3005 A-150 Pasadena Freeway, Pasadena, TX 77053. Officers: Delores M. Flores, Vice President Maritime Services, (Qualifying Individual). George T. Cook, President/Treasurer, Application Type: New OFF License.

Dated: April 16, 2010.
Rachel E. Dickon,
Assistant Secretary.

[FR Doc. 2010-9226 Filed 4-21-10; 8:45 am]

BILLING CODE P